ENVIRONMENTAL PROTECTION AGENCY

40 CFR Part 300

[FRL-6532-5]

National Oil and Hazardous Substance Pollution Contingency Plan: National Priorities List

AGENCY: Environmental Protection Agency.

ACTION: Notice of Intent for Partial Deletion of Moton Elementary School, including Mugrauer Playground (Operable Unit 4) and Groundwater (Operable Unit 5) of the Agriculture Street Landfill Superfund Site from the National Priorities List and request for comments.

SUMMARY: The U.S. Environmental Protection Agency (EPA) Region 6 announces its intent to delete Moton Elementary School, including Mugrauer Playground (Operable Unit 4) and Groundwater (Operable Unit 5) of the Agriculture Street Landfill Superfund Site from the National Priorities List (NPL) and requests public comment on this proposed action.

The NPL, promulgated pursuant to Section 105 of the Comprehensive Environmental Response, Compensation, and Liability Act (CERCLA) of 1980, as amended, constitutes Appendix B of 40 CFR Part 300 which is the National Oil and Hazardous Substances Pollution Contingency Plan (NCP). The EPA, in consultation with the State of Louisiana, through the Louisiana Department of Environmental Quality (LDEQ), has determined that the Operable Units pose no significant threat to public health, welfare, or the environment and, therefore, further remedial measures pursuant to CERCLA are not appropriate.

DATES: The EPA will accept comments concerning its proposal to delete for thirty (30) days after publication of this document in the Federal Register and a newspaper of general circulation.

ADDRESSES: Comments may be mailed to: Ms. Janetta Coats, Community Relations Coordinator, EPA (6SF-PO), 1445 Ross Ave., Dallas, Texas 75202-2733, (214)665-7308 or 1-800-533-3508 (Toll Free).

Information Repositories: Comprehensive information on the site has been compiled in a public docket which is available for viewing at the Agriculture Street Landfill Superfund Site information repositories:

EPA Region 6, 7th Floor Reception Area, 1445 Ross Avenue, Suite 1000, Dallas, Texas 75202-2733, (214) 665-6548, Mon.-Fri. 8 a.m. to 4 p.m.

Louisiana Department of Environmental Quality, Inactive and Abandoned Sites Division, 7290 Bluebonnet Road, Baton Rouge, Louisiana 70809, (504) 765-0487, Mon.—Fri. 8 a.m. to 4 p.m.

Agriculture Street Landfill Site, Community Outreach Office, 3221 Press Street, New Orleans, Louisiana 70126, (504) 944-6445, Mon. 12 noon to 6 p.m., Tues., Thurs., and Fri. 3 to 6 p.m., Wed. 10 a.m. to 3 p.m.

FOR FURTHER INFORMATION CONTACT: Ms. Ursula R. Lennox, Remedial Project Manager, EPA (6SF-LP), 1445 Ross Avenue, Dallas, Texas 75202-2733, (214) 665-6743 or 1-800-533-3508 (Toll Free).

SUPPLEMENTARY INFORMATION:

Table of Contents

I. Introduction

II. NPL Deletion Criteria

III. Deletion Procedures

IV. Basis for Intended Partial Site Deletion

I. Introduction

The U.S. Environmental Protection Agency (EPA) Region 6 announces its intent to delete Moton Elementary School, including Mugrauer Playground (Operable Unit 4) and Groundwater (Operable Unit 5), two portions of the Agriculture Street Landfill Superfund Site from the National Priorities List (NPL), Appendix B of the National Oil and Hazardous Substances Pollution Contingency Plan (NCP), Code of Federal Regulations, Title 40 (40 CFR), Part 300, and requests comments on the proposed deletion. OU Nos. 1, 2, and 3 (undeveloped property, residential area, and Shirley Jefferson Community Center) are not the subject of this partial deletion.

The EPA identifies sites that appear to present a significant risk to public health, welfare, or the environment and maintains the NPL as the list of those sites. As described in § 300.425(e)(3) of the NCP, sites or portions of sites deleted from the NPL remain eligible for remedial actions in the unlikely event that site conditions warrant such action.

The EPA will accept comments concerning its intent to delete OU Nos. 4 and 5 for thirty (30) days after publication of this notice. The EPA has also published a notice of the availability of this Notice Of Intent for Partial Deletion (NOID) in a major newspaper of general circulation at or near the site.

Section II of this notice explains the criteria for deleting sites from the NPL. Section III discusses procedures that EPA is using for this action. Section IV discusses the Agriculture Street Landfill Superfund site and demonstrates how Operable Units 4 and 5 meet the deletion criteria.

II. NPL Deletion Criteria

Section 300.425(e) of the NCP provides that releases may be deleted from, or recategorized on the NPL where no further response is appropriate. In making a determination to delete a release from the NPL, EPA shall consider, in consultation with the State, whether any of the following criteria have been met:

i. Responsible parties or other parties have implemented all appropriate response actions required;

ii. All appropriate Fund-financed response under CERCLA has been implemented, and no further action by responsible parties is appropriate; or

iii. The remedial investigation has shown that the release poses no significant threat to public health or the environment and, therefore, taking of remedial measures is not appropriate.

Even if a site is deleted from the NPL, where hazardous substances, pollutants, or contaminants remain at the site above levels that allow for unlimited use and unrestricted exposure, CERCLA Section 121(c), 42 U.S.C. 9621(c) requires that a subsequent review of the site be conducted at least every five years after the initiation of the remedial action at the site to ensure that the action remains protective of public health and the environment. If new information becomes available which indicates a need for further action, EPA may initiate remedial actions. Whenever there is a significant release from a site deleted from the NPL, the site may be restored to the NPL without application of the Hazard Ranking System.

III. Deletion Procedures

The following procedures were used for the proposed deletion of the site:

(1) EPA Region 6 issued a Record of Decision on September 2, 1997 which documented that no further remedial action is necessary to ensure protection of human health and the environment for Agriculture Street Landfill's Operable Unit 4 and Operable Unit 5;

(2) LDEQ, on behalf of the State of Louisiana, concurred by letter dated August 28, 1997, with EPA's decision that no action was necessary for Operable Units 4 and 5 and that deletion from the NPL was appropriate;

(3) A notice has been published in the local newspaper and has been distributed to appropriate federal, state, and local officials and other interested parties announcing the availability of the Notice of Intent for Partial Deletion and the commencement of a 30-day public comment period; and,

(4) EPA placed copies of documents supporting the proposed deletion in the site information repositories identified above.

Deletion of a site from the NPL does not itself create, alter, or revoke any individual's rights or obligations. The NPL is designed primarily for informational purposes and to assist Agency management. As mentioned in Section II of this notice, Section 300.425(e)(3) of the NCP states that the deletion of a site from the NPL does not preclude eligibility for future response actions, should future conditions warrant such actions.

This Federal Register notice, and a concurrent notice in a newspaper of record, announce the initiation of a thirty (30) day public comment period and the availability of the Notice of Intent for Partial Deletion. The public is asked to comment on EPA's proposal to delete OU Nos. 4 and 5 from the NPL. All critical documents needed to evaluate EPA's decision are included in the Deletion Docket and are available for review at the information repositories.

Upon completion of the thirty (30) day public comment period, EPA will evaluate all comments received before issuing the final decision on the partial deletion. The EPA will prepare a Responsiveness Summary for comments received during the public comment period and will address concerns presented in the comments. The Responsiveness Summary will be made available to the public at the information repositories listed previously, and members of the public are encouraged to review them. If, after review of all public comments, EPA determines that the partial deletion from the NPL is appropriate, EPA will publish a final notice of partial deletion in the Federal Register. Deletion of OU Nos. 4 and 5 does not actually occur until the final Notice of Partial Deletion is published in the Federal Register.

IV. Basis for Intended Partial Site Deletion

The following information provides the Agency's rationale for the proposal to delete OU Nos. 4 and 5 from the NPL and EPA's finding that the criteria in 40 CFR 300.425(e) are satisfied.

A. Site Location

The Agriculture Street Landfill Superfund Site (site) is approximately 95 acres and is located in the eastern section of the city of New Orleans. The site is bound on the north by Higgins Boulevard, and on the south and west by the Southern Railroad rights-of-way. The eastern site boundary extends from the cul-de-sac at the southern end of Clouet Street, near the railroad tracks, to Higgins Boulevard between Press and Montegut streets. Approximately 48 acres are undeveloped property. The other 47 acres are developed with multiple- and single-family residences, commercial properties, a community center, and a school.

To effectively investigate and develop alternatives for the remediation of the site, EPA divided the site into five operable units (OUs):

• OU1—The undeveloped (currently fenced-in) property;

• OU2—The residential development which consists of the Gordon Plaza Apartments, single family dwellings in Gordon Plaza subdivision, and the Press Park town homes;

• OU3—Shirley Jefferson Community Center (formerly known as Press Park Community Center);

• OU4—Moton Elementary School which includes Mugrauer Playground; and,

• OU5—Groundwater.

Operable Unit 4 is located in the southeast corner of the site. Coordinates for its four corners, beginning in the northwest are 29°59′ 18.76″ north latitude, 90°02′ 20.26″ west longitude; 29°59′ 17.52″ north latitude, 90°02′ 20.52″ west longitude; 29°59′ 11.12″ north latitude, 90°02′ 27.67″ west longitude; and 29°59′ 09.63″ north latitude, 90°02′ 21.76″ west longitude. Operable Unit 5 is designated as the groundwater beneath the site, within which no identified plume of contamination has been specified.

B. Site History

The Agriculture Street Landfill was a municipal waste landfill operated by the City of New Orleans. Operations at the site began in approximately 1909 and continued until the landfill was closed in the late 1950's. The landfill was reopened for approximately one year in 1965 for use as an open burning and disposal area for debris left in the wake of Hurricane Betsy. Records indicate that during its operation the landfill received municipal waste, ash from the city's incineration of municipal waste, and debris and ash from open burning. There is no evidence that industrial or chemical wastes were ever transported to, or disposed of at, the site.

From the 1970's through the late 1980's, approximately 47 acres of the site were developed for private and public uses that included: private single-family homes, multiple-family private and public housing units, Shirley Jefferson Community Center, a recreation center, retail businesses, the Moton Elementary School, and an electrical substation. The remaining 48 acres of the former landfill are currently undeveloped and covered with vegetation. Previous investigations on the undeveloped property have indicated the presence of hazardous substances, pollutants, or contaminants at concentrations above background and/or regulatory levels.

In 1986, EPA Region 6 conducted a Site Inspection and prepared a Hazard Ranking System (HRS) documentation record package utilizing the 1982 HRS model. The site score was not sufficient for the site to be considered for proposal and inclusion on the NPL. Pursuant to the requirements of Superfund Amendment and Reauthorization Act of 1986 (SARA), which amended the original Superfund legislation, EPA published a revised HRS model on December 14, 1990. At the request of area community leaders, EPA initiated, in September 1993, an Expanded Site Inspection (ESI) to support the preparation of an updated HRS documentation record package that would evaluate the site's risks using the revised HRS model. Subsequently, on August 23, 1994, the site was proposed for inclusion on the NPL as part of NPL update No. 17, and on December 16, 1994, EPA placed the site on the NPL.

Prior to 1994, access to OU1, the undeveloped portion of the former landfill, was unrestricted, allowing unauthorized waste disposal and exposure to contaminants of potential concern such as lead, arsenic and carcinogenic polynuclear aromatic hydrocarbons (cPAHs) found in the surface and subsurface soils. In a time-critical removal action, initiated in March 1994, EPA installed an 8-foot-high, chain-link fence topped with barbed wire around the entire undeveloped portion of the former landfill.

Concurrent with the time-critical removal action, EPA performed a Remedial Removal Integrated Investigation (RRII) of the entire site. RRII fieldwork was conducted from April 4 through June 20, 1994. Samples of surface and subsurface soil, sediment, surface water, groundwater, air, dust, tap water, garden produce, and paint chips collected during the field investigation were submitted to specialized laboratories for analysis. Aerial photographs, geophysical investigations and computer modeling were used to supplement the analytical data in defining site boundaries and evaluating migration pathways. These data were also used to prepare the Human Health Risk Assessment and the Ecological Risk Assessment.

Based on information presented in the RRII report, EPA conducted a second time-critical removal action at the site in February 1995, and performed confirmational air and groundwater sampling. Through this sampling event, EPA was able to obtain a second round of analyses of the groundwater, to clarify earlier identified ambient air contaminants, and to verify composition and magnitude of indoor air contaminants. In 1995, EPA prepared an Engineering Evaluation and Cost Analysis examining response action alternatives for Operable Units 1-3.

EPA Region 6 issued a Record of Decision selecting the no action alternative for Operable Units 4 and 5 on September 2, 1997. On the same day, EPA signed an Action Memorandum selecting non-time-critical removal actions for Operable Units 1, 2, and 3.

C. Characterization of Risk

No further action will be taken by EPA on Moton School, including the Mugrauer Playground (OU4) and Groundwater (OU5). This decision is based on the risk assessment that evaluated Moton School (OU4) and Groundwater (OU5), which concluded that no unacceptable risk exists that is attributable to site related contaminants.

The baseline Human Health Risk Assessment, conducted as part of the Remedial Removal Integrated Investigation for this site, evaluated potential adverse health effects associated with site-related contaminants in the absence of remedial action. As part of the baseline Risk Assessment, an extensive evaluation of exposures to lead was performed, using EPA's Integrated Exposure Uptake Biokinetic (IEUBK) model. For contaminants other than lead, the likelihood of adverse public health impacts associated with long-term exposure to site-related contaminants was determined by (a) estimating potential excess lifetime cancer risks for carcinogens and (b) by computing hazard indices (HIs) for non-carcinogens. Federal laws, regulations, and guidance define a range of acceptable cancer risks of 1 × 10−4 (one in ten thousand) to 1 × 10−6 (one in one million), and a Hazard Index of unity (1) for non-cancer risks.

For Moton School (OU4), the total excess lifetime cancer risk posed to children attending the school was estimated 2 × 10−5 (or two in one hundred thousand), which is within the acceptable risk range specified by federal law, regulations, and guidance. Most of this estimated risk was attributable to inhalation of non-site-related benzene and chloroform from indoor and outdoor air. In addition, none of the HIs exceeded EPA's regulatory benchmark of unity.

Given the findings of the Risk Assessment, no further action for this operable unit is warranted. Deletion from the NPL should clear the way for beneficial utilization of the property of the City of New Orleans or the New Orleans School Board.

For the Groundwater Operable Unit, (OU5), information supplied to EPA by the Louisiana Department of Environmental Quality indicates that the shallow aquifer beneath the site is not suitable for human consumption, is not used for any beneficial purpose, and is not considered a potential future source of drinking water. Residents at the site area are connected to the municipal water supply for domestic water requirements. There are no on-site drinking water wells. Site groundwater presents no other exposure pathway. Therefore, no further action for this operable unit is warranted.

Because these no-action remedies will result in hazardous substances remaining on-site, a review will be conducted every five years after commencement of remedial action in accordance with CERCLA Section 121(c), 42 U.S.C. 9621(c). Should future reviews indicate that the site poses an unacceptable risk to human health or the environment, then EPA may initiate response actions under the authority of CERCLA and in accordance with the NCP.

D. Community Involvement

Public participation activities have been satisfied as required in CERCLA Section 113(k), 42 U.S.C. 9613(k), and Section 117, 42 U.S.C. 9617. Documents in the deletion docket which EPA relied on for recommendation of the Partial deletion from the NPL are available to the public in the information repositories.

E. Proposed Action

The EPA, with concurrence of the State of Louisiana (LDEQ), has determined that Operable Unit 4 (Moton Elementary School, including Mugrauer Playground) and Operable Unit 5 (Groundwater) pose no significant threat to public health or the environment; therefore, no remedial measures are appropriate. In accordance with EPA policy on partial deletion of sites listed on the National Priorities List, EPA proposes to delete OU4 and OU5 from the NPL.

Dated: January 26, 2000.
Jerry Clifford,
Deputy Regional Administrator, EPA Region 6.

[FR Doc. 00-2479 Filed 2-4-00; 8:45 am]

BILLING CODE 6560-50-P